DEPARTMENT OF COMMERCE

Economic Development Administration

Notice of Petitions by Firms for Determination of Eligibility To Apply for Trade Adjustment Assistance

AGENCY: Economic Development Administration, U.S. Department of Commerce.

ACTION: Notice and opportunity for public comment.

SUMMARY: The Economic Development Administration (EDA) has received petitions for certification of eligibility to apply for Trade Adjustment Assistance from the firms listed below. Accordingly, EDA has initiated investigations to determine whether increased imports into the United States of articles like or directly competitive with those produced by each of the firms contributed importantly to the total or partial separation of the firms' workers, or threat thereof, and to a decrease in sales or production of each petitioning firm.

SUPPLEMENTARY INFORMATION:

List of Petitions Received by EDA for Certification of Eligibility To Apply for Trade Adjustment Assistance
[4/15/2020 through 4/20/2020]
Firm name | Firm address | Date accepted for investigation | Product(s)
Kaspar Wire Works, Inc | 959 State Highway 95 North, Shiner, TX 77984 | 4/15/2020 | The firm manufactures formed metal wire products, such as metal wire baskets and cages.
Composite Cutter Technology, Inc | 31632 North Ellis Drive, Volo, IL 60073 | 4/17/2020 | The firm manufactures precision turning and cutting tools.
Fuller Industries, LLC | One Fuller Way, Great Bend, KS 67530 | 4/20/2020 | The firm manufactures brushes and chemical cleaning products.

Any party having a substantial interest in these proceedings may request a public hearing on the matter. A written request for a hearing must be submitted to the Trade Adjustment Assistance Division, Room 71030, Economic Development Administration, U.S. Department of Commerce, Washington, DC 20230, no later than ten (10) calendar days following publication of this notice. These petitions are received pursuant to section 251 of the Trade Act of 1974, as amended.

Please follow the requirements set forth in EDA's regulations at 13 CFR 315.9 for procedures to request a public hearing. The Catalog of Federal Domestic Assistance official number and title for the program under which these petitions are submitted is 11.313, Trade Adjustment Assistance for Firms.

Miriam Kearse,
Lead Program Analyst.

[FR Doc. 2020-09606 Filed 5-4-20; 8:45 am]

BILLING CODE 3510-WH-P